DEPARTMENT OF AGRICULTURE

Forest Service

Helena National Forest, Montana, Telegraph Vegetation Project

AGENCY: Forest Service, USDA.

ACTION: Corrected NOI.

SUMMARY: On November 12, 2009, a Notice of Intent (NOI) to prepare an environmental impact statement called the Telegraph Vegetation Project was published in the 74 FR 58239. This NOI is hereby corrected due to a change in the proposed action (FSH 1909.15 Chapter 20, 22.2).

New to the proposed action is the addition of approximately 449 acres of slashing generally small diameter trees followed by prescribed burning within the Jericho Mountain Inventoried Roadless Area.

The Helena National Forest will still prepare an environmental impact statement for the Telegraph Vegetation Project to manage vegetation actions in the Little Blackfoot drainage west of the Continental Divide. The purpose and need for action remains the same as in the original NOI, which is to be responsive to the mountain pine beetle outbreak in this area by recovering economic value of dead and dying trees, promoting desirable regeneration, reducing fuels and the risk of wildfire, and maintaining diverse wildlife habitats.

DATES: Comments concerning the scope of the analysis must be received by August 20, 2012. The draft environmental impact statement is expected Feb 2013 and the final environmental impact statement is expected July 2013.

ADDRESSES: Send written comments to Scott Johnson, Helena National Forest, 2880 Skyway Dr., Helena, MT 59602. Comments may also be sent via email to comments-northern-helena@fs.fed.us, or via facsimile to 406-449-5436. Please indicate “Telegraph Scoping” on the subject line.

It is important that reviewers provide their comments at such times and in such a way that they are useful to the Agency's preparation of the EIS. Therefore, comments should be provided prior to the close of the comment period and should clearly articulate the reviewer's concerns and contentions.

FOR FURTHER INFORMATION CONTACT: Scott Johnson at 406-495-3795.

Individuals who use telecommunication devices for the deaf (TDD) may call the Federal Information Relay Service (FIRS) at 1-800-877-8339 between 8 a.m. and 8 p.m., Eastern Time, Monday through Friday.

SUPPLEMENTARY INFORMATION:

Purpose and Need for Action

Wide-scale tree mortality has occurred throughout the project area due to the mountain pine beetle. Treatment is needed to ensure diverse and sustainable forest stands and to lessen the risks of wildfire which could threaten wildland urban interface areas. The project focuses on reducing hazardous fuels, establishing healthy regeneration, and recovering the economic value of dead trees. In addition, aspen and whitebark pine can be promoted with treatment. The project also seeks to maintain or improve watershed values.

Proposed Action

Approximately 6,666 acres are proposed for treatment. Roughly 1,750 acres are young stands that established after past harvest and are in need of thinning to ensure they reach viable maturity. The remaining acres are primarily mature stands of lodgepole pine with some Douglas-fir, Engelmann spruce, and subalpine fir with high mountain pine beetle mortality. These acres would be treated using a combination of improvement cuts, regeneration harvests, thinning, and prescribed fire. Post treatment activities would include approximately 4,064 acres of underburning, site prep, broadcast burning, jackpot burning, and hand piling/burning. Approximately 449 acres of slashing generally small diameter trees followed by prescribed burning would occur within the Jericho Mountain Inventoried Roadless Area. Up to 8 miles of temporary road construction and approximately 78 miles of road reconstruction/maintenance would be necessary to implement the proposed action.

A site specific forest plan amendment may be needed related to forest plan standards for hiding cover, open road densities during hunting season, and thermal cover.

Responsible Official

Helena National Forest Supervisor.

Nature of Decision To Be Made

The decisions to be made include: Whether to implement the proposed action or an alternative to the proposed action, what monitoring requirements would be appropriate to evaluate the implementation of this project, and whether a forest plan amendment would be necessary as a result of the decision for this project.

Scoping Process

This notice of intent initiates the scoping process, which guides the development of the environmental impact statement. In July 2012, a scoping package will be mailed, an open house will be scheduled, and Web site information will be posted. The comments received from the initial scoping period in November 2009 will still be considered when analyzing issues and developing alternatives. They will be retained in the project record.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Comments received in response to this solicitation, including names, addresses, email addresses, and phone numbers of those who comment, will be part of the public record and will be available for inspection. Comments submitted anonymously will be accepted and considered; however, anonymous comments will not provide the Agency with the ability to provide the respondent with subsequent environmental documents.

Dated: July 13, 2012.
Kevin T. Riordan,
Forest Supervisor.

[FR Doc. 2012-17759 Filed 7-19-12; 8:45 am]

BILLING CODE 3410-11-P